DEPARTMENT OF ENERGY

Federal Energy Regulatory Commission

[Docket No. CP01-79-000]

ANR Pipeline Company; Notice of Site Visit

May 22, 2001.

On May 30 and 31, 2001, the staff of the Office of Energy Projects (OEP) will conduct a pre-certification site visit of ANR Pipeline Company's (ANR) Badger Pipeline Project in Racine and Kenosha Counties, Wisconsin. The project area will be inspected by automobile and on foot, as appropriate. The site visit will start each day at 8:00 am at the lobby of the Country Inns & Suites at 7011 122nd Ave., Kenosha, Wisconsin. Representatives of ANR will accompany the OEP staff.

All interested parties may attend. Those planning to attend must provide their own transportation. For additional information, contact the Commission's Office of External Affairs (202) 208-1088.

David P. Boergers,
Secretary.

[FR Doc. 01-13358 Filed 5-25-01; 8:45 am]

BILLING CODE 6717-01-M